DEPARTMENT OF ENERGY

Federal Energy Regulatory Commission

Combined Notice of Filings #1

Take notice that the Commission received the following electric rate filings:

Docket Numbers: ER10-1946-015.

Applicants: Broad River Energy LLC.

Description: Triennial Compliance Filing for the Southeast Region of Broad River Energy LLC.

Filed Date: 12/17/20.

Accession Number: 20201217-5235.

Comments Due: 5 p.m. ET 2/16/21.

Docket Numbers: ER12-1740-002.

Applicants: Rippey Wind Energy LLC.

Description: Compliance filing: Rippey Wind Energy LLC MBR Tariff Update to be effective 12/19/2020.

Filed Date: 12/18/20.

Accession Number: 20201218-5105.

Comments Due: 5 p.m. ET 1/8/21.

Docket Numbers: ER12-1740-003.

Applicants: Rippey Wind Energy LLC.

Description: Notice of Non-Material Change in Status of Rippey Wind Energy LLC.

Filed Date: 12/18/20.

Accession Number: 20201218-5220.

Comments Due: 5 p.m. ET 1/8/21.

Docket Numbers: ER13-2100-006; ER13-434-008; ER16-1750-007; ER16-2601-005; ER17-2292-005; ER17-2381-004; ER19-1656-004; R20-2123-002; ER20-2768-002.

Applicants: Virginia Electric and Power Company, Dominion Energy Generation Marketing, Inc., Eastern Shore Solar LLC, Summit Farms Solar, LLC, Southampton Solar LLC, Scott-II Solar LLC, Wilkinson Solar LLC, Greensville County Solar Project, LLC, Hardin Solar Energy LLC.

Description: Notice of Non-Material Change in Status of the Dominion Energy PJM Companies.

Filed Date: 12/17/20.

Accession Number: 20201217-5251.

Comments Due: 5 p.m. ET 1/7/21.

Docket Numbers: ER15-734-001.

Applicants: Wolverine Power Supply Cooperative, Inc.

Description: Market-Based Triennial Review Filing: Market Power Update Triennial to be effective 12/19/2020.

Filed Date: 12/18/20.

Accession Number: 20201218-5129.

Comments Due: 5 p.m. ET 2/16/21.

Docket Numbers: ER16-2290-002.

Applicants: Spartan Renewable Energy, Inc.

Description: Market-Based Triennial Review Filing: Market Power Update Triennial to be effective 12/19/2020.

Filed Date: 12/18/20.

Accession Number: 20201218-5132.

Comments Due: 5 p.m. ET 2/16/21.

Docket Numbers: ER19-1904-002.

Applicants: Nevada Power Company

Description: Compliance filing: OATT Revision Attachment N 12.18.20 to be effective 5/22/2019.

Filed Date: 12/18/20.

Accession Number: 20201218-5181.

Comments Due: 5 p.m. ET 1/8/21.

Docket Numbers: ER20-1890-004.

Applicants: California Independent System Operator Corporation.

Description: Compliance filing: 2020-12-17 Limited Time Waiver Petition—Postpone Eff. Date to Feb 1, 2021 to be effective N/A.

Filed Date: 12/17/20.

Accession Number: 20201217-5140.

Comments Due: 5 p.m. ET 1/7/21.

Docket Numbers: ER20-2123-001.

Applicants: Hardin Solar Energy LLC.

Description: Compliance filing: Amended Market-Based Rate Tariff to be effective 2/16/2021.

Filed Date: 12/17/20.

Accession Number: 20201217-5179.

Comments Due: 5 p.m. ET 1/7/21.

Docket Numbers: ER20-2875-000.

Applicants: Southwest Power Pool, Inc.

Description: Report Filing: Refund Report in Response to Order issued in EL19-80-000 to be effective N/A.

Filed Date: 12/18/20.

Accession Number: 20201218-5060.

Comments Due: 5 p.m. ET 1/8/21.

Docket Numbers: ER20-2953-001.

Applicants: Lone Tree Wind, LLC.

Description: Compliance filing: Revised Rate Schedule FERC No. 1 to be effective 11/23/2020.

Filed Date: 12/18/20.

Accession Number: 20201218-5083.

Comments Due: 5 p.m. ET 1/8/21.

Docket Numbers: ER21-109-002.

Applicants: PJM Interconnection, L.L.C.

Description: Tariff Amendment: Correction to Amendment to WMPA, SA No. 4768; Queue No. AC1-117 (consent) to be effective 8/4/2017.

Filed Date: 12/17/20.

Accession Number: 20201217-5079.

Comments Due: 5 p.m. ET 1/7/21.

Docket Numbers: ER21-284-001.

Applicants: Groton Station Fuel Cell, LLC.

Description: Tariff Amendment: Amendment to 1 to be effective 12/1/2020.

Filed Date: 12/18/20.

Accession Number: 20201218-5187.

Comments Due: 5 p.m. ET 1/8/21.

Docket Numbers: ER21-560-000.

Applicants: Georgia-Pacific Consumer Operations LLC, Palatka.

Description: Errata to Notice of Cancellation of MRB Tariff of Georgia-Pacific Consumer Operations LLC, Palatka.

Filed Date: 12/15/20.

Accession Number: 20201215-5179.

Comments Due: 5 p.m. ET 1/5/21.

Docket Numbers: ER21-678-000.

Applicants: Public Service Company of Colorado.

Description: § 205(d) Rate Filing: 2020-12-17 PSC-HLYCRS-Dist Wheeling-625-0.0.0 to be effective 1/1/2021.

Filed Date: 12/17/20.

Accession Number: 20201217-5222.

Comments Due: 5 p.m. ET 1/7/21.

Docket Numbers: ER21-679-000.

Applicants: Midcontinent Independent System Operator, Inc.

Description: § 205(d) Rate Filing: 2020-12-17_MISO Spinning Reserves Filing to be effective 6/1/2021.

Filed Date: 12/17/20.

Accession Number: 20201217-5226.

Comments Due: 5 p.m. ET 1/7/21.

Docket Numbers: ER21-680-000.

Applicants: Gopher State Solar, LLC, Otter Tail Solar, LLC, Otter Tail Storage, LLC.

Description: Request for Prospective Tariff Waiver, et al. of Gopher State Solar, LLC, et al.

Filed Date: 12/17/20.

Accession Number: 20201217-5253.

Comments Due: 5 p.m. ET 12/28/20.

Docket Numbers: ER21-681-000.

Applicants: Midcontinent Independent System Operator, Inc., American Transmission Company LLC.

Description: § 205(d) Rate Filing: 2020-12-18_SA 3592 ATC-Wood County Solar E&P (J986) to be effective 1/1/2021.

Filed Date: 12/18/20.

Accession Number: 20201218-5107.

Comments Due: 5 p.m. ET 1/8/21.

Docket Numbers: ER21-682-000.

Applicants: Basin Electric Power Cooperative.

Description: § 205(d) Rate Filing: Submission of Revised Wholesale Power Contract FERC Rate Schedule No. 4 to be effective 1/1/2021.

Filed Date: 12/18/20.

Accession Number: 20201218-5146.

Comments Due: 5 p.m. ET 1/8/21.

Docket Numbers: ER21-683-000.

Applicants: PJM Interconnection, L.L.C.

Description: § 205(d) Rate Filing: Correction to Original ISA, SA No. 5689; Queue No. AF1-193 (amend) to be effective 6/29/2020.

Filed Date: 12/18/20.

Accession Number: 20201218-5149.

Comments Due: 5 p.m. ET 1/8/21.

Docket Numbers: ER21-684-000.

Applicants: Wheelabrator South Broward Inc.

Description: Compliance filing: Request for Cat. 1 Seller Status in the SE Region and Revised MBR Tariff to be effective 12/19/2020.

Filed Date: 12/18/20.

Accession Number: 20201218-5190.

Comments Due: 5 p.m. ET 1/8/21.

Docket Numbers: ER21-685-000.

Applicants: Trieve, LLC.

Description: Baseline eTariff Filing: Application For Market Based Rate Authority to be effective 12/19/2020.

Filed Date: 12/18/20.

Accession Number: 20201218-5191.

Comments Due: 5 p.m. ET 1/8/21.

Docket Numbers: ER21-686-000.

Applicants: Southwest Power Pool, Inc.

Description: § 205(d) Rate Filing: East Texas Cooperatives, Inc. State Rate Revisions to be effective 3/1/2021.

Filed Date: 12/18/20.

Accession Number: 20201218-5209.

Comments Due: 5 p.m. ET 1/8/21.

Docket Numbers: ER21-687-000.

Applicants: Duke Energy Carolinas, LLC.

Description: § 205(d) Rate Filing: Revisions to Rate Schedule Nos. 328 and 329 to be effective 1/1/2021.

Filed Date: 12/18/20.

Accession Number: 20201218-5221.

Comments Due: 5 p.m. ET 1/8/21.

Docket Numbers: ER21-688-000.

Applicants: Duke Energy Carolinas, LLC.

Description: § 205(d) Rate Filing: Revisions to Cancelled Rate Schedule Nos. 327, 331, 334 to be effective 1/1/2018.

Filed Date: 12/18/20.

Accession Number: 20201218-5231.

Comments Due: 5 p.m. ET 1/8/21.

Docket Numbers: ER21-689-000.

Applicants: PJM Interconnection, L.L.C.

Description: § 205(d) Rate Filing: PJM submits New Jersey State Agreement Approach Study Agreement, SA No. to be effective 11/18/2020.

Filed Date: 12/18/20.

Accession Number: 20201218-5238.

Comments Due: 5 p.m. ET 1/8/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 18, 2020.
Kimberly D. Bose,
Secretary.

[FR Doc. 2020-28562 Filed 12-23-20; 8:45 am]

BILLING CODE 6717-01-P